DEPARTMENT OF TRANSPORTATION

Federal Aviation Administration

14 CFR Part 39

[Docket No. FAA-2012-1319; Directorate Identifier 2012-NM-179-AD]

RIN 2120-AA64

Airworthiness Directives; the Boeing Company Airplanes

AGENCY: Federal Aviation Administration (FAA), DOT.

ACTION: Notice of proposed rulemaking (NPRM).

SUMMARY: We propose to revise an existing airworthiness directive (AD) that applies to all The Boeing Company Model 757 airplanes. The existing AD currently requires revising the maintenance program by incorporating new and revised fuel tank system limitations in the Airworthiness Limitations (AWLs) section of the Instructions for Continued Airworthiness; and requires the initial inspection of certain repetitive AWL inspections to phase-in those inspections, and repair if necessary. Since we issued that AD, we have found errors in paragraph references in the existing AD. This proposed AD would revise those paragraph references to refer to the correct paragraphs. We are proposing this AD to prevent the potential for ignition sources inside fuel tanks caused by latent failures, alterations, repairs, or maintenance actions, which in combination with flammable fuel vapors, could result in a fuel tank explosion and consequent loss of the airplane.

DATES: We must receive comments on this proposed AD by March 18, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Kevin Nguyen, Aerospace Engineer, Propulsion Branch, ANM-140S, FAA, Seattle Aircraft Certification Office, 1601 Lind Avenue SW., Renton, Washington 98057-3356; phone: 425-917-6501; fax: 425-917-6590; email: kevin.nguyen@faa.gov.

SUPPLEMENTARY INFORMATION:

Comments Invited

We invite you to send any written relevant data, views, or arguments about this proposed AD. Send your comments to an address listed under the ADDRESSES section. Include “Docket No. FAA-2012-1319; Directorate Identifier 2012-NM-179-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On June 6, 2012, we issued AD 2012-12-15, Amendment 39-17095 (77 FR 42964, July 23, 2012), for all The Boeing Company Model 757 airplanes. That AD superseded AD 2008-10-11, Amendment 39-15517 (73 FR 25974, May 8, 2008). AD 2012-12-15 requires revising the maintenance program by incorporating new and revised fuel tank system limitations in the Airworthiness Limitations (AWLs) section of the Instructions for Continued Airworthiness to satisfy Special Federal Aviation Regulation No. 88 requirements; and requires the initial inspection of certain repetitive AWL inspections to phase-in those inspections, and repair if necessary. That AD resulted from a report that an AWL required by a previous AD must be revised. We issued that AD to prevent the potential for ignition sources inside fuel tanks caused by latent failures, alterations, repairs, or maintenance actions, which in combination with flammable fuel vapors, could result in a fuel tank explosion and consequent loss of the airplane.

Actions Since Existing AD Was Issued

Since we issued AD 2012-12-15, Amendment 39-17095 (77 FR 42964, July 23, 2012), we have found errors in paragraph references in the existing AD. The second sentence in paragraph (h)(1) of the existing AD refers to paragraph (n) of that AD, which is a compliance time for AWL No. 28-AWL-26. The correct reference should be to paragraph (l) of that AD, which is a compliance time for AWL No. 28-AWL-03. The last sentence in paragraph (l) of the existing AD refers to paragraph (h)(2) of that AD, which is a definition of a detailed inspection. The correct reference should be to paragraph (h)(1)(ii) of that AD, which references a specific AWL and compliance time.

FAA's Determination

We are proposing this AD because we evaluated all the relevant information and determined the unsafe condition described previously is likely to exist or develop in other products of the same type design.

Proposed AD Requirements

This proposed AD would retain all requirements of AD 2012-12-15, Amendment 39-17095 (77 FR 42964, July 23, 2012). This proposed AD would revise certain paragraph references.

Costs of Compliance

We estimate that this proposed AD affects 639 airplanes of U.S. registry.

We estimate the following costs to comply with this proposed AD:

Estimated Costs
Action | Labor cost | Parts cost | Cost per product | Cost on U.S. operators
AWLs revisions [retained actions from existing AD (AD 2012-12-15, Amendment 39-17095 (77 FR 42964, July 23, 2012))] | 9 work-hours × $85 per hour = $765 | None | $765 | $488,835
Inspections [retained actions from existing AD (AD 2012-12-15, Amendment 39-17095 (77 FR 42964, July 23, 2012))] | 8 work-hours × $85 per hour = $680 | None | 680 | 434,520

The new requirements of this proposed AD add no additional economic burden.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2012-1319; Directorate Identifier 2012-NM-179-AD.

(a) Comments Due Date

The FAA must receive comments on this AD action by March 18, 2013.

(b) Affected ADs

This AD revises AD 2012-12-15, Amendment 39-17095 (77 FR 42964, July 23, 2012). Certain requirements of this AD terminate certain requirements of AD 2008-11-07, Amendment 39-15529 (73 FR 30755, May 29, 2008); AD 2008-06-03, Amendment 39-15415 (73 FR 13081, March 12, 2008); and AD 2009-06-20, Amendment 39-15857 (74 FR 12236, March 24, 2009).

(c) Applicability

(1) This AD applies to all The Boeing Company Model 757-200, -00PF, -200CB, and -300 series airplanes, certificated in any category.

(2) This AD requires revisions to certain operator maintenance documents to include new actions (e.g., inspections) and/or critical design configuration control limitations (CDCCLs). Compliance with these actions and/or CDCCLs is required by 14 CFR 91.403(c). For airplanes that have been previously modified, altered, or repaired in the areas addressed by these inspections, the operator may not be able to accomplish the actions described in the revisions. In this situation, to comply with 14 CFR 91.403(c), the operator must request approval of an alternative method of compliance (AMOC) according to paragraph (s) of this AD. The request should include a description of changes to the required actions that will ensure the continued operational safety of the airplane.

(d) Subject

Joint Aircraft System Component (JASC)/Air Transport Association (ATA) of America Code 28: Fuel.

(e) Unsafe Condition

This AD results from a design review of the fuel tank systems. The Federal Aviation Administration is issuing this AD to prevent the potential for ignition sources inside fuel tanks caused by latent failures, alterations, repairs, or maintenance actions, which, in combination with flammable fuel vapors, could result in a fuel tank explosion and consequent loss of the airplane.

(f) Compliance

You are responsible for having the actions required by this AD performed within the compliance times specified, unless the actions have already been done.

(g) Retained Revision of Airworthiness Limitations (AWLs) Section

This paragraph restates the requirements of paragraph (g) of AD 2012-12-15, Amendment 39-17095 (77 FR 42964, July 23, 2012). Before December 16, 2008, revise the AWLs section of the Instructions for Continued Airworthiness (ICA) by incorporating the information in the subsections specified in paragraphs (g)(1) through (g)(3) of this AD into the maintenance planning data (MPD) document; except that the initial inspections specified in table 1 to paragraph (h)(1) of this AD must be done at the compliance times specified in table 1 to paragraph (h)(1) of this AD. Accomplishing the requirements of paragraph (k) of this AD terminates the requirements of this paragraph.

(1) Subsection E, “AIRWORTHINESS LIMITATIONS—FUEL SYSTEMS,” of Boeing Temporary Revision (TR) 09-008, dated March 2008, to Section 9, “Airworthiness Limitations (AWLs) and Certification Maintenance Requirements (CMRs),” of the Boeing 757 MPD Document, D622N001-9.

(2) Subsection F, “PAGE FORMAT: SYSTEMS AIRWORTHINESS LIMITATIONS,” of Boeing TR 09-008, dated March 2008, to Section 9, “Airworthiness Limitations (AWLs) and Certification Maintenance Requirements (CMRs),” of the Boeing 757 MPD Document, D622N001-9.

(3) Subsection G, “AIRWORTHINESS LIMITATIONS—FUEL SYSTEM AWLs,” AWLs No. 28-AWL-01 through No. 28-AWL-24 inclusive, of Boeing TR 09-008, dated March 2008, to Section 9, “Airworthiness Limitations (AWLs) and Certification Maintenance Requirements (CMRs),” of the Boeing 757 MPD Document, D622N001-9. As an optional action, AWLs No. 28-AWL-25 and No. 28-AWL-26, as identified in Subsection G of Boeing TR 09-008, dated March 2008, to Section 9, “Airworthiness Limitations (AWLs) and Certification Maintenance Requirements (CMRs),” of the Boeing 757 MPD Document, D622N001-9, also may be incorporated into the AWLs section of the ICA.

(h) Retained Initial Inspections and Repair, With Revised Service Information

(1) This paragraph restates the requirements of paragraph (h) of AD 2012-12-15, Amendment 39-17095 (77 FR 42964, July 23, 2012), with a revised paragraph reference. Do the inspections specified in table 1 to paragraph (h)(1) of this AD at the compliance time identified in table 1 to paragraph (h)(1) of this AD, and repair any discrepancy, in accordance with Subsection G of Boeing TR 09-008, dated March 2008, to Section 9, “Airworthiness Limitations (AWLs) and Certification Maintenance Requirements (CMRs),” of the Boeing 757 MPD Document, D622N001-9; Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; except as required by paragraph (l) of this AD. The repair must be done before further flight. Accomplishing the inspections identified in table 1 to paragraph (h)(1) of this AD as part of a maintenance program before the applicable compliance time specified in table 1 to paragraph (h)(1) of this AD constitutes compliance with the requirements of this paragraph. As of 6 months after August 27, 2012 (the effective date of AD 2012-12-15), only Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; may be used.

Table 1 to Paragraph (h)(1) of This AD—Initial Inspections
AWL No. | Description | Compliance time (whichever occurs later): Threshold | Compliance time (whichever occurs later): Grace period
(i) 28-AWL-01 | A detailed inspection of external wires over the center fuel tank for damaged clamps, wire chafing, and wire bundles in contact with the surface of the center fuel tank | Within 120 months since the date of issuance of the original standard airworthiness certificate or the date of issuance of the original export certificate of airworthiness | Within 72 months after June 12, 2008 (the effective date of AD 2008-10-11, Amendment 39-15517 (73 FR 25974, May 8, 2008)).
(ii) 28-AWL-03 | A special detailed inspection of the lightning shield to ground termination on the out-of-tank fuel quantity indicating system to verify functional integrity | Within 120 months since the date of issuance of the original standard airworthiness certificate or the date of issuance of the original export certificate of airworthiness | Within 24 months after June 12, 2008 (the effective date of AD 2008-10-11, Amendment 39-15517 (73 FR 25974, May 8, 2008)).
(iii) 28-AWL-14 | A special detailed inspection of the fault current bond of the fueling shutoff valve actuator of the center wing tank to verify electrical bond | Within 120 months since the date of issuance of the original standard airworthiness certificate or the date of issuance of the original export certificate of airworthiness | Within 60 months after June 12, 2008 (the effective date of AD 2008-10-11, Amendment 39-15517 (73 FR 25974, May 8, 2008)).

(2) For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(3) For the purposes of this AD, a special detailed inspection is: “An intensive examination of a specific item, installation, or assembly to detect damage, failure, or irregularity. The examination is likely to make extensive use of specialized inspection techniques and/or equipment. Intricate cleaning and substantial access or disassembly procedure may be required.”

(i) No Alternative Inspections, Inspection Intervals, or CDCCLs for Paragraphs (g) and (h) of This AD

This paragraph restates the requirements of paragraph (i) of AD 2012-12-15, Amendment 39-17095 (77 FR 42964, July 23, 2012). Except as required by paragraph (k) of this AD, after accomplishing the actions specified in paragraphs (g) and (h) of this AD, no alternative inspections, inspection intervals, or CDCCLs may be used unless the inspections, intervals, or CDCCLs are approved as an AMOC in accordance with the procedures specified in paragraph (s) of this AD.

(j) Terminating Action for AD 2008-06-03, Amendment 39-15415 (73 FR 13081, March 12, 2008)

This paragraph restates the requirements of paragraph (j) of AD 2012-12-15, Amendment 39-17095 (77 FR 42964, July 23, 2012). Incorporating AWLs No. 28-AWL-23, No. 28-AWL-24, and No. 28-AWL-25 into the AWLs section of the ICA in accordance with paragraph (g)(3) of this AD or the maintenance program in accordance with paragraph (k)(3) of this AD terminates the action required by paragraph (h)(2) of AD 2008-06-03, Amendment 39-15415 (73 FR 13081, March 12, 2008).

(k) Additional Revision of Airworthiness Limitations (AWLs) Section

This paragraph restates the requirements of paragraph (k) of AD 2012-12-15, Amendment 39-17095 (77 FR 42964, July 23, 2012). Within 6 months after August 27, 2012 (the effective date of AD 2012-12-15), revise the maintenance program by incorporating the information in the subsections specified in paragraphs (k)(1) through (k)(3) of this AD. Accomplishing the actions required by this paragraph terminates the requirements of paragraph (g) of this AD.

(1) Subsection E, “AIRWORTHINESS LIMITATIONS—FUEL SYSTEMS,” of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(2) Subsection F, “PAGE FORMAT: FUEL SYSTEMS AIRWORTHINESS LIMITATIONS,” of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(3) Subsection G, “AIRWORTHINESS LIMITATIONS—FUEL SYSTEM AWLs,” AWLs No. 28-AWL-01 through No. 28-AWL-26 inclusive, of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9.

(4) Notwithstanding any other maintenance or operational requirements, components that have been identified as airworthy or installed on the affected airplanes before the revision of the maintenance program, as required by paragraph (g) of this AD, do not need to be reworked in accordance with the CDCCLs. However, once the maintenance program has been revised, future maintenance actions on these components must be done in accordance with the CDCCLs.

(l) Compliance Time for AWL No. 28-AWL-03

This paragraph restates the requirements of paragraph (l) of AD 2012-12-15, Amendment 39-17095 (77 FR 42964, July 23, 2012), with a revised paragraph reference. The initial compliance time for AWL No. 28-AWL-03 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 120 months since the date of issuance of the original standard airworthiness certificate or the date of issuance of the original export certificate of airworthiness, or within 24 months after August 27, 2012 (the effective date of AD 2012-12-15), whichever occurs later. Accomplishing the actions required by this paragraph terminates the requirements of paragraph (h)(1)(ii) of this AD.

(m) Initial Inspection Compliance Times for AWL No. 28-AWL-25

This paragraph restates the requirements of paragraph (m) of AD 2012-12-15, Amendment 39-17095 (77 FR 42964, July 23, 2012). The initial inspection compliance time for AWL No. 28-AWL-25 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 72 months after accomplishing the actions specified in Boeing Service Bulletin 757-28A0088 (which is not incorporated by reference in this AD).

(n) Initial Inspection Compliance Times for AWL No. 28-AWL-26

This paragraph restates the requirements of paragraph (n) of AD 2012-12-15, Amendment 39-17095 (77 FR 42964, July 23, 2012). The initial inspection compliance time for AWL No. 28-AWL-26 of Section 9, “Airworthiness Limitations (AWLs) and Certification Maintenance Requirements (CMRs),” of the Boeing 757 MPD Document, D622N001-9, Revision December 2008; Boeing TR 09-010, dated July 2010, to Section 9, “Airworthiness Limitations (AWLs) and Certification Maintenance Requirements (CMRs),” of Boeing 757 MPD Document, D622N001-9; or Boeing TR 09-011, dated November 2010, to Section 9, “Airworthiness Limitations (AWLs) and Certification Maintenance Requirements (CMRs),” of the Boeing 757 MPD Document, D622N001-9; is within 12 months after accomplishing the actions specified in Boeing Service Bulletin 757-28A0105 (which is not incorporated by reference in this AD).

(o) No Alternative Inspections, Inspection Intervals, or CDCCLs After the Actions Required by Paragraph (k) of This AD Are Done

This paragraph restates the requirements of paragraph (o) of AD 2012-12-15, Amendment 39-17095 (77 FR 42964, July 23, 2012). After accomplishing the actions specified in paragraph (k) of this AD, no alternative inspections, inspection intervals, or CDCCLs may be used unless the inspections, intervals, or CDCCLs are approved as an AMOC in accordance with the procedures specified in paragraph (s) of this AD.

(p) Terminating Action for AD 2008-11-07, Amendment 39-15529 (73 FR 30755, May 29, 2008)

This paragraph restates the requirements of paragraph (p) of AD 2012-12-15, Amendment 39-17095 (77 FR 42964, July 23, 2012). Incorporating AWLs No. 28-AWL-20 and No. 28-AWL-26 into the maintenance program in accordance with paragraph (k)(3) of this AD terminates the actions required by paragraphs (j) and (m) of AD 2008-11-07, Amendment 39-15529 (73 FR 30755, May 29, 2008).

(q) Terminating Action for AD 2009-06-20, Amendment 39-15857 (74 FR 12236, March 24, 2009)

This paragraph restates the requirements of paragraph (q) of AD 2012-12-15, Amendment 39-17095 (77 FR 42964, July 23, 2012). Incorporating AWL No. 28-AWL-22 into the maintenance program in accordance with paragraph (k)(3) of this AD terminates the actions required by paragraph (h) of AD 2009-06-20, Amendment 39-15857 (74 FR 12236, March 24, 2009).

(r) Credit for Previous Actions

This paragraph restates the credit given for previous actions specified in paragraph (r) of AD 2012-12-15, Amendment 39-17095 (77 FR 42964, July 23, 2012).

(1) This paragraph provides credit for actions required by paragraphs (g) and (h) of this AD, if those actions were done before June 12, 2008 (the effective date of AD 2008-10-11, Amendment 39-15517 (73 FR 25974, May 8, 2008)), using Section 9, “Airworthiness Limitations (AWLs) and Certification Maintenance Requirements (CMRs),” of the Boeing 757 MPD Document, D622N001-9, Revision March 2006; Revision October 2006; Revision January 2007; or Revision November 2007 (which are not incorporated by reference in this AD).

(2) This paragraph provides credit for actions required by paragraphs (m) and (n) of this AD, if those actions were done before August 27, 2012 (the effective date of AD 2012-12-15, Amendment 39-17095 (77 FR 42964, July 23, 2012)), using Boeing TR 09-008, dated March 2008, to Section 9, “Airworthiness Limitations (AWLs) and Certification Maintenance Requirements (CMRs),” of the Boeing 757 MPD Document, D622N001-9 (which was incorporated by reference in AD 2008-10-11, Amendment 39-15517 (73 FR 25974, May 8, 2008)).

(s) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously for AD 2008-10-11, Amendment 39-15517 (73 FR 25974, May 8, 2008); or for 2012-12-15, Amendment 39-17095 (77 FR 42964, July 23, 2012); are approved as AMOCs for the corresponding provisions of this AD.

(t) Related Information

(1) For more information about this AD, contact Kevin Nguyen, Aerospace Engineer, Propulsion Branch, ANM-140S, FAA, Seattle ACO, 1601 Lind Avenue SW., Renton, Washington 98057-3356; phone: 425-917-6501; fax: 425-917-6590; email: kevin.nguyen@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on January 17, 2013.
Michael Kaszycki,
Acting Manager, Transport Airplane Directorate, Aircraft Certification Service.

[FR Doc. 2013-01953 Filed 1-29-13; 8:45 am]

BILLING CODE 4910-13-P